DEPARTMENT OF THE INTERIOR

Bureau of Land Management

[LLMTL01000.L161000000.PN0000; MO #4500163958; MTM-89170-01]

Public Land Order No. 7913; Withdrawal of Public Land for the Zortman-Landusky Mine Reclamation Site; Montana

AGENCY: Bureau of Land Management, Interior.

ACTION: Public Land Order.

SUMMARY: This Public Land Order (PLO) withdraws 2,688.13 acres of public lands in Phillips County, Montana, from location or entry under the United States mining laws, but not from the mineral leasing or mineral materials disposal laws, for a 20-year period, subject to valid existing rights, to protect the Zortman-Landusky Mine reclamation site.

DATES: This PLO takes effect on September 9, 2022.

FOR FURTHER INFORMATION CONTACT: Micah Lee, Realty Specialist, Bureau of Land Management, Havre Field Office, telephone (406) 262-2851, email at mrlee@blm.gov, during business hours, 8 a.m. to 4:30 p.m., Monday through Friday, except holidays. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The purpose of the withdrawal established by this PLO is to protect the Zortman-Landusky Mine area and facilitate reclamation and stabilization of the site.

Order

By virtue of the authority vested in the Secretary of the Interior by Section 204 of the Federal Land Policy and Management Act of 1976, 43 U.S.C. 1714, it is ordered as follows:

1. Subject to valid existing rights, the following described public lands are hereby withdrawn from location or entry under the United States mining laws, but not from the mineral leasing or the mineral materials disposal laws.

Principal Meridian, Montana

T. 25 N., R. 24 E.,

Sec. 10, lots 7 thru 11 and NE¼SE¼;

Sec. 11, lot 8;

Sec. 12, lots 8, 20, 23, and 24 and SE¼SW¼;

Sec. 13, W½NW¼;

Sec. 14, lots 1 and 2, lots 4 thru 11, E½NE¼, SW¼NE¼, and N½SE¼;

Sec. 15, lots 4 thru 18;

Sec. 21, SE¼NE¼, NE¼SE¼, and W½SE¼SE¼;

Sec. 22, lot 1, lots 3 thru 7, SE¼NE¼, W½NW¼, N1/2SW¼, NE¼SW¼SW¼, N½SE¼SW¼, and NW¼SE¼;

Sec. 23, W½NE¼ and NW¼.

T. 25 N., R. 25 E.,

Sec. 7, lots 5 thru 9, lots 14, 17, 18, 22, 23, 24, and 26, lots 28 thru 32, and NW¼NE¼;

Sec. 8, SW¼SW¼;

Sec. 17, lots 3 and 4, NW¼NE¼, S½NE¼, E½NW¼, N½NE¼NE¼SE¼, N½NW¼NE¼SE¼, N½NE¼NW¼SE¼, and N½NW¼NW¼SE¼;

Sec. 18, lots 2 thru 5, lots 9, 10, 13, and 14, and SW¼NE¼.

The areas described aggregate 2,688.13 acres, according to the official plats of the surveys of the said lands on file with the BLM.

2. This withdrawal will expire 20 years from the effective date of this order, unless as a result of a review conducted before the expiration date, pursuant to section 204(f) of the Federal Land Policy and Management Act of 1976, 43 U.S.C. 1714(f), the Secretary determines that the withdrawal shall be further extended.

(Authority: 43 CFR 2300.)

Shannon A. Estenoz,
Assistant Secretary for Fish and Wildlife and Parks.

[FR Doc. 2022-19503 Filed 9-8-22; 8:45 am]

BILLING CODE 4310-DN-P